DEPARTMENT OF ENERGY

Federal Energy Regulatory Commission

[Docket No. RP03-281-001]

Columbia Gas Transmission Corporation; Notice of Compliance Filing

April 24, 2003.

Take notice that on April 21, 2003, Columbia Gas Transmission Corporation (Columbia) tendered for filing additional information and supporting work papers in compliance with the Commission's order issued March 31, 2003, in this proceeding.¹

¹ Columbia Gas Transmission Corp., 102 FERC ¶ 61,348 (2003).

Columbia states that copies of its filing have been mailed to all parties on the official service lest in Docket No. RP30-281.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings.See 18 CFR 385.2001(a)(1)(iii) and the instructions on the Commission's Web site under the “e-Filing” link.

Protest Date: May 5, 2003.

Magalie R. Salas,
Secretary.

[FR Doc. 03-10624 Filed 4-29-03; 8:45 am]

BILLING CODE 6717-01-P